EXPORT-IMPORT BANK

Sunshine Act Meetings; Notice of an Open Meeting of the Board of Directors of the Export-Import Bank of the United States

TIME AND DATE: Thursday, September 1, 2022 at 9:30 a.m.

PLACE: The meeting will be held via teleconference.

STATUS: The meeting will be open to public observation for Item Numbers 1 and 2.

MATTERS TO BE CONSIDERED:

1. Appointment of EXIM Advisory Committee for 2022-23

2. Appointment of EXIM Sub-Saharan Africa Advisory Committee for 2022-23

CONTACT PERSON FOR MORE INFORMATION: Joyce B. Stone (202-257-4086). Members of the public who wish to attend the meeting via teleconference should register via using the link below: https://teams.microsoft.com/registration/PAFTuZHHMk2Zb1GDkIVFJw,pHLqbjVTrkuy_9KepKN6dQ,MFtnLzltSEGI6EQECdI5iQ,xonF-XEBlE62i4GX3SaLOA,pFuQn7W56UyeCp_ZdJp_6w,rBqKXoa-E0qEpQWdfk4EGg?mode=read&tenantId=b953013c-c791-4d32-996f-518390854527 by noon Wednesday, August 30, 2021. Individuals will be directed to a Webinar registration page and provided call-in information.

Joyce B. Stone,
Assistant Corporate Secretary.

[FR Doc. 2022-18133 Filed 8-18-22; 11:15 am]

BILLING CODE 6690-01-P